DEPARTMENT OF THE INTERIOR

National Park Service

National Register of Historic Places; Notification of Pending Nominations

Nominations for the following properties being considered for listing in the National Register were received by the National Park Service before June 22, 2002. Pursuant to § 60.13 of 36 CFR Part 60 written comments concerning the significance of these properties under the National Register criteria for evaluation may be forwarded by United States Postal Service, to the National Register Historic Places, National Park Service, 1849 C St., NW., NC400, Washington, DC 20240; by all other carriers, National Register of Historic Places, National Park Service, 800 N. Capitol St., NW., Suite 400, Washington DC 20002; or by fax, 202-343-1836. Written or faxed comments should be submitted by July 24, 2002.

Patrick W. Andrus,
Acting Keeper of the National Register of Historic Places.

ALASKA

Matanuska-Susitna Borough-Census Area

Talkeetna Airstrip, Roughly fron First St. S down D St. to the Susitna R., Talkeetna, 02000814

MICHIGAN

Kent County

Monroe Avenue Water Filtration Plant, 1430 Monroe Ave. NW, Grand Rapids, 02000815

MISSOURI

Buchanan County

Dewey Avenue—West Rosine Historic District, (St. Joseph MPS) Roughly bound by Prospect Ave., Auguste St., Dewey Avenue and West Rosine St., St. Joseph, 02000816

Krug Park Place Historic District, (St. Joseph MPS (AD)), Roughly bounded by St. Joseph Ave., Myrtle St., Clark St., and Magnolia Ave., St. Joseph, 02000817

Patee Town Historic District, (St. Joseph MPS), Roughly bounded by Penn St., S. 11th St., Lafayette St. and S. 15th St., St. Joseph, 02000818

NEVADA

Clark County

LDS Moapa Stake Office Building, 161 W. Virginia St., Overton, 02000819

Lincoln County

1938 Lincoln County Courthouse, 1 Main St., Pioche, 02000820

NEW YORK

Columbia County

St. Peter's Presbyterian Church and Spencertown Cemetery, Cty. Rte. 7, at NY 203, Spencertown, 02000821

Monroe County

United Congregational Church of Irondequoit, 644 Titus Ave., Rochester, 02000822

OREGON

Benton County

College Hill West Historic District, Roughly bounded by NW Johnson, Polk, Arnold and 36th, Corvallis, 02000827

Josephine County

Golden Historic District, 3482 Coyote Creek Rd., Wolf Creek, 02000825

Multnomah County

Balfour—Gutherie Building, 733 SW Oak St., Portland, 02000824

Cobbs, Frank J. and Maude Louise, Estate, 2424 SW Montgomery Dr., Portland, 02000826

TENNESSEE

Davidson County

Pearl High School, 613 17th Ave. N, Nashville, 02000828

TEXAS

Cherokee County

Perkins, James I. and Myrta Blake, House, 303 E. 5th St., Rusk, 02000823

VERMONT

Rutland County

Aldrichville Mill Village Historic Archeological District, Green Mountain National Forest, Wallingford, 02000829

A request for REMOVAL has been made for the following resources:

TENNESSEE

Loudon County

Lenoir Cotton Mill, Depot St. Lenoir City, 75001767

Rutherford County

Brown's Mill, SE of Lascassas on Brown's Mill Rd., Lascassas vicinity, 78002628

Crichlow Grammar School and Cox., E.C., Memorial Gym, 400 N. Maple St. And 105 Olive St., Murfreesboro, 92001685

[FR Doc. 02-17092 Filed 7-8-02; 8:45 am]

BILLING CODE 4310-70-P